DEPARTMENT OF THE TREASURY

Office of Thrift Supervision

Application Filing Requirements

AGENCY: Office of Thrift Supervision (OTS), Treasury.

ACTION: Notice and request for comment.

SUMMARY: The proposed information collection request (ICR) described below has been submitted to the Office of Management and Budget (OMB) for review and approval, as required by the Paperwork Reduction Act of 1995, 44 U.S.C. 3507. OTS is soliciting public comments on the proposal.

DATES: Submit written comments on or before August 12, 2011. A copy of this ICR, with applicable supporting documentation, can be obtained from RegInfo.gov at http://www.reginfo.gov/public/do/PRAMain.

ADDRESSES: Send comments, referring to the collection by title of the proposal or by OMB approval number, to OMB and OTS at these addresses: Office of Information and Regulatory Affairs, Attention: Desk Officer for OTS, U.S. Office of Management and Budget, 725 17th Street, NW., Room 10235, Washington, DC 20503, or by fax to (202) 393-6974; and Information Collection Comments, Chief Counsel's Office, Office of Thrift Supervision, 1700 G Street, NW., Washington, DC 20552, or by e-mail to infocollection.comments@ots.treas.gov. OTS will post comments and the related index on the OTS Internet Site at http://www.ots.treas.gov. In addition, interested persons may inspect comments at the Public Reading Room, 1700 G Street, NW., Washington, DC 20552 by appointment. To make an appointment, send an e-mail to public.info@ots.treas.gov.

FOR FURTHER INFORMATION CONTACT: For further information or to obtain a copy of the submission to OMB, please contact Ira L. Mills at, ira.mills@ots.treas.gov, or on (202) 906-6531, or facsimile number (202) 906-6518, Regulations and Legislation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Application Filing Requirements.

OMB Number: 1550-0056.

Form Number: N/A.

Description: OTS regulations require that applications, notices, or other filings must be submitted to the appropriate Regional Office of OTS. See 12 CFR 516.40(a). Section 516.40(a) requires the applicant to file the original application and the number of copies indicated on the applicable form with the applications filing division of the appropriate Regional Office. If the form does not indicate the number of copies the applicant must file or if OTS has not prescribed a form for the application, the applicant must file the original application and two copies. The applicant must caption the original application and all required copies with the type of filing and must include all exhibits and required documents with the original and the required copies. 12 CFR 516.30(b). If an application, notice, or other filing raises a significant issue of law or policy, or the form instructs the applicant to file with OTS Headquarters, the applicant must also file copies of the application with the Applications Filing Room at OTS in Washington, DC. The applicant must file the number of copies with OTS Headquarters that are indicated on the applicable form. If the form does not indicate the number of copies, or if OTS has not prescribed a form for the application, the applicant must file three copies with OTS Headquarters. 12 CFR 516.40(b).

Type of Review: Extension of a currently approved collection.

Affected Public: Business or other for-profit.

Estimated Number of Respondents: 1,175.

Estimated Frequency of Response: On occasion.

Estimated Total Burden: 200 hours.

Clearance Officer: Ira L. Mills, (202) 906-6531, Office of Thrift Supervision, 1700 G Street, NW., Washington, DC 20552.

Dated: July 7, 2011.
Ira L. Mills,
Paperwork Clearance Officer, Office of Chief Counsel, Office of Thrift Supervision.

[FR Doc. 2011-17539 Filed 7-12-11; 8:45 am]

BILLING CODE 6720-01-P